FEDERAL COMMUNICATIONS COMMISSION

47 CFR Part 54

[WC Docket Nos. 10-90; 07-135; 05-337; 03-109; GN Docket No. 09-51; CC Docket Nos. 01-92, 96-45; WT Docket No. 10-208; FCC 11-161; FCC 12-52]

Annual Report for Mobility Fund Phase I Support and Record Retention

AGENCY: Federal Communications Commission.

ACTION: Final rule; announcement of effective date.

SUMMARY: In this document, the Commission announces that the Office of Management and Budget (OMB) has approved, for a period of three years, the information collection associated with the Commission's Annual Report for Mobility Fund Phase I Support and Record Retention, adopted as part of the Connect America Fund & Intercarrier Compensation Reform Order and the Third Order on Reconsideration. This notice is consistent with the Order, which stated that the Commission would publish a document in the Federal Register announcing the effective date of the rules.

DATES: The rules in §§ 54.1008(d) and (e), 54.1009(a) through (c) and 54.1010, published at 76 FR 73830, November 29, 2011 are effective July 26, 2013.

FOR FURTHER INFORMATION CONTACT: Rita Cookmeyer, Wireless Telecommunications Bureau, 202-418-0434, via the Internet at Rita.Cookmeyer@fcc.gov.

SUPPLEMENTARY INFORMATION: This document announces that on March 28, 2013, OMB approved, for a period of three years, the information collection requirements contained in 47 CFR 54.1008(d) and (e), 54.1009(a) through (c) and 54.1010 and the new FCC Form 690. The Commission publishes this document to announce the effective date of these rule sections. See, In the Matter of Connect America Fund; A National Broadband Plan for Our Future; Establishing Just and Reasonable Rates for Local Exchange Carriers; High-Cost Universal Service Support, WC Docket Nos. 10-90, 07-135, 05-337, 03-109; GN Docket No. 09-51; CC Docket Nos. 01-92, 96-45; WT Docket No. 10-208; FCC 11-161, 76 FR 73830 and FCC 12-52, 77 FR 30904, May 24, 2012. If you have any comments on the burden estimates listed below, or how the Commission can improve the collections and reduce any burdens caused thereby, please contact Judith B. Herman, Federal Communications Commission, Room 1-B441, 445 12th Street SW., Washington, DC 20554. Please include the OMB Control Number, 3060-1185, in your correspondence. The Commission will also accept your comments via email at PRA@fcc.gov.

Synopsis

As required by the Paperwork Reduction Act of 1995 (44 U.S.C. 3507), the FCC is notifying the public that it received OMB approval on March 28, 2013, for the information collection requirements contained in 47 CFR part 54. Under 5 CFR 1320, an agency may not conduct or sponsor a collection of information unless it displays a current, valid OMB Control Number. No person shall be subject to any penalty for failing to comply with a collection of information subject to the Paperwork Reduction Act that does not display a current, valid OMB Control Number. The OMB Control Number is 3060-1185. The foregoing notice is required by the Paperwork Reduction Act of 1995, Pub. L. 104-13, October 1, 1995, and 44 U.S.C. 3507.

The total annual reporting burdens and costs for the respondents are as follows:

OMB Control Number: 3060-1185.

OMB Approval Date: 03/28/2013.

OMB Expiration Date: 03/31/2016.

Title: Annual Report for Mobility Fund Phase I Support, FCC Form 690 and Record Retention Requirements.

Form Number: FCC Form 690.

Respondents: Business or other for-profit entities, not-for-profit institutions, and state, local or tribal government.

Number of Respondents and Responses: 70 respondents; 820 responses.

Estimated Time per Response: 18 hours.

Frequency of Response: On occasion and annual reporting requirements, third party disclosure requirements and recordkeeping requirements.

Obligation to Respond: Required to obtain or retain benefits. The statutory authority for this information collection is contained in 47 U.S.C. sections 154, 254 and 303(r) of the Communications Act of 1934, as amended.

Total Annual Burden: 14,830 hours.

Total Annual Cost: N/A.

Privacy Impact Assessment: Impact Assessment:

Nature and Extent of Confidentiality: There is no need for confidentiality. The information collected on FCC Form 690 will be made available for public inspection. Applicants may request materials or information submitted to the Commission be given confidential treatment under 47 CFR 0.459 of the Commission's rules.

Needs and Uses: The Commission will use this information to ensure that each winning bidder is meeting its obligations for receiving Mobility Fund Phase I support. On November 18, 2011, the Federal Communications Commission released a Report and Order in the Universal Service Fund & Intercarrier Compensation Transformation Order (USF/ICC) proceeding, WC Docket Nos. 10-90, 07-135, 05-337, 03-109; GN Docket No. 09-51; CC Docket Nos. 01-92, 96-45; WT Docket No. 10-208; FCC 11-161. On May 14, 2012, the Commission released the Third Order on Reconsideration of the USF/ICC Report and Order which revised certain Mobility Fund Phase 1 rules. In adopting the rules, the Commission provided for one-time support to immediately accelerate deployment of networks for mobile broadband services in unserved areas. Thus, the information is being collected to meet the objectives of the Universal Service Fund program.

Federal Communications Commission.
Marlene H. Dortch,
Secretary.

[FR Doc. 2013-17930 Filed 7-25-13; 8:45 am]

BILLING CODE 6712-01-P